DEPARTMENT OF LABOR

Employment and Training Administration

[TA-W-55,891 and TA-W-55,891A]

Wilsonart International, Inc., a Subsidiary of ITW, Temple, TX, Including an Employee of Wilsonart International, Inc. Located in Atlanta, GA; Amended Certification Regarding Eligibility To Apply for Worker Adjustment Assistance and Alternative Trade Adjustment Assistance

In accordance with Section 223 of the Trade Act of 1974 (19 U.S.C. 2273) the Department of Labor issued a Certification Regarding Eligibility to Apply for Worker Adjustment Assistance and Alternative Trade Adjustment Assistance on December 9, 2004, applicable to workers of Wilsonart International, Inc., a subsidiary of ITW, Temple, Texas. The notice was published in the Federal Register on January 24, 2005 (70 FR 3392).

At the request of the State agency, the Department reviewed the certification for workers of the subject firm. New information shows that a worker separation occurred involving an employee of the Temple, Texas facility of Wilsonart International, Inc., a subsidiary of ITW located in Atlanta, Georgia. Ms. Miclene McGhee provided customer support services for the production of high-pressure decorative laminate used in kitchen counter tops and cabinets at the Temple, Texas location of the subject firm.

Based on these findings, the Department is amending this certification to include an employee of the Temple, Texas facility of Wilsonart International, Inc., a subsidiary of ITW, located in Atlanta, Georgia and to also extend ATAA eligibility to Ms. Miclene McGhee located in Atlanta, Georgia.

The intent of the Department's certification is to include all workers of Wilsonart International, Inc., a subsidiary of ITW, Temple, Texas, who were adversely affected by a shift in production to India and Thailand.

The amended notice applicable to TA-W-55,891 is hereby issued as follows:

All workers of Wilsonart International, Inc., a subsidiary of ITW, Temple, Texas (TA-W-55,891), including an employee of Wilsonart International, Inc., a subsidiary of ITW, Temple, Texas, located in Atlanta, Georgia (TA-W-55,891A), who became totally or partially separated from employment on or after October 21, 2003, through December 9, 2006, are eligible to apply for adjustment assistance under Section 223 of the Trade Act of 1974, and are also eligible to apply for alternative trade adjustment assistance under Section 246 of the Trade Act of 1974, as amended.

Signed at Washington, DC, this 26th day of April 2005.
Linda G. Poole,
Certifying Officer, Division of Trade Adjustment Assistance.

[FR Doc. E5-2130 Filed 5-2-05; 8:45 am]

BILLING CODE 4510-30-P